DEPARTMENT OF THE INTERIOR

Bureau of Land Management

[ID-330-1220-DA]

Notice of Availability of Travel Map, Challis Field Office

AGENCY: Bureau of Land Management, Interior.

ACTION: Notice.

SUMMARY: The Bureau of Land Management (BLM) announces the availability of a map depicting existing roads, vehicle ways, and trails on public lands managed by the BLM Challis Field Office. The map implements the Challis Resource Management Plan (RMP, 1999) limiting vehicle travel to existing roads, ways, and trails. Additionally, the production of this map is the first step in the process of implementing a Comprehensive Travel Management Plan, also required by the Challis RMP.

SUPPLEMENTARY INFORMATION: The BLM Challis Field Office manages nearly 800,000 acres of public lands, principally in Custer County, Idaho. The Challis Field Office completed its RMP in 1999, which limited vehicle travel to existing roads, ways, and trails, and recommended that the Field Office complete a Comprehensive Travel Management Plan to administer all aspects of motorized and non-motorized travel in the field office through a system of designated routes. The publication of a map showing existing roads, vehicle ways, and trails is the first step in completing the Comprehensive Travel Management Plan.

Any travel off these designated routes would be considered to be travel in a closed area and would be a violation of 43 CFR 8341.1(c).

No decision is required for the publication of the map, but the map will help implement the RMP's Record of Decision. BLM will be seeking further public input regarding the present disposition and future development of the existing roads and trails through the course of developing the Comprehensive Travel Management Plan.

ADDRESSES: Copies of the map are available for the public by contacting the BLM Challis Field Office, 801 Blue Mountain Road, Challis, ID 83226; and by telephone at (208) 879-6200.

FOR FURTHER INFORMATION: Please contact Jeff Christenson, Outdoor Recreation Planner, at the Challis Field Office at the address and phone number listed above.

Dated: January 23, 2006.
David Rosenkrance,
Challis Field Manager.

[FR Doc. E6-8407 Filed 5-31-06; 8:45 am]

BILLING CODE 4310-GG-P